DEPARTMENT OF AGRICULTURE

Submission for OMB Review; Comment Request

October 1, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Special Supplemental Nutrition Program for Women, Infants, and Children Breastfeeding Policy Inventory.

OMB Control Number: 0584-NEW.

Summary of Collection: The Healthy, Hunger-Free Kids Act of 2010 (Pub. L. 111-296, Sec. 305) mandates programs under its authorization to cooperate with U.S. Department of Agriculture program research and evaluation activities. The mandate applies to Special Supplemental Nutrition Program for Women, Infants, and Children (WIC) agencies. The Food and Nutrition Service (FNS) is requesting approval to conduct the WIC Local Agency Breastfeeding Policy and Practice Inventory. WIC provides supplemental foods, health care referrals, and nutrition education to nutritionally at-risk, low-income pregnant women, new mothers, their infants, and children up to age five. Research has shown that there is no better food than breast milk for a baby's first year of life. Breastfeeding provides many health, nutritional, economic, and emotional benefits to both mother and baby. FNS will collect information using a self-administered Web-based survey of all State and local WIC agencies.

Need and use of the information: The information collected from the survey will obtain a census of (1) all measures of breastfeeding that State and local WIC agencies currently collect, including their definitions and methods of collection, as well as the most recent values of those measures; (2) the data system agencies use to store and process breastfeeding data and the types of information they report to other agencies or external organizations; and (3) breastfeeding policies and practices at State and local WIC agencies. Without the information FNS will not have a comprehensive assessment of the types of breastfeeding measures that State and local WIC agencies collect, the range of breastfeeding policies and practices agencies offer, and the type of data systems and reporting that agencies use for breastfeeding data storage and processing.

Description of Respondents: State, Local, or Tribal Government; Not-for-profit institutions.

Number of Respondents: 2,090.

Frequency of Responses: Report: Other (one time).

Total Burden Hours: 4,178.

Ruth Brown,
Departmental Information Collection Clearance Officer.

[FR Doc. 2012-24589 Filed 10-4-12; 8:45 am]

BILLING CODE 3410-30-P